Proclamation 7902 of May 13, 2005

National Defense Transportation Day and National Transportation Week, 2005

By the President of the United States of America

A Proclamation

We rely on the men and women of our transportation industry to ensure efficient, secure, and reliable travel for our citizens and to keep our economy growing. On National Defense Transportation Day and during National Transportation Week, we recognize those who maintain and support our transportation system.

Our transportation system is vital to our national security. It is used to deploy troops around the world and to deliver crucial equipment and supplies in the field. Each day Americans also rely on our transportation system to reach their travel destinations and to transport billions of tons of freight across our country. My Administration has taken important steps to protect our Nation's bridges, tunnels, highways, waterways, rail lines, pipelines, and airports to help keep our citizens safe and our economy running smoothly.

Transportation professionals keep our country moving and support our citizens as they conduct business, tour our great Nation, and reunite with family and friends. The strong work ethic and professionalism of transportation employees help increase efficiency and production across our Nation and advance American prosperity. Their efforts reflect the values that make our country strong and help ensure that our transportation infrastructure will continue to benefit Americans for generations to come.

To recognize the men and women who work in the transportation industry and who contribute to our Nation's well-being and defense, the Congress, by joint resolution approved May 16, 1957, as amended (36 U.S.C. 120), has designated the third Friday in May each year as “National Defense Transportation Day,” and, by joint resolution approved May 14, 1962, as amended (36 U.S.C. 133), declared that the week during which that Friday falls be designated as “National Transportation Week.”

NOW, THEREFORE, I, GEORGE W. BUSH, President of the United States of America, do hereby proclaim Friday, May 20, 2005, as National Defense Transportation Day and May 15 through May 21, 2005, as National Transportation Week. I encourage all Americans to learn how our modern transportation system contributes to the security of our citizens and the prosperity of our country and to celebrate these observances with appropriate ceremonies and activities.

IN WITNESS WHEREOF, I have hereunto set my hand this thirteenth day of May, in the year of our Lord two thousand five, and of the Independence of the United States of America the two hundred and twenty-ninth.

B

[FR Doc. 05-10058

Filed 5-17-05; 8:58 am]

Billing code 3195-01-P